FEDERAL COMMUNICATIONS COMMISSION

[DA 24-498; FR ID 223700]

Media Bureau Announces Commencement of First-Come, First-Serve Channel Change Opportunity for Class A Television, LPTV and TV Translator Stations Beginning on August 20, 2024

AGENCY: Federal Communications Commission.

ACTION: Notice.

SUMMARY: The Media Bureau announces that beginning August 20, 2024, it will lift its current freeze on major modification applications and permit all Class A television (Class A), low power television (LPTV), and television translator stations (TV translator) stations to file major change applications in order to change their existing channel, subject to certain limitations. Specifically changes to a station's facility are restricted to a change in channel and those that could otherwise be requested in a minor modification application. No other major changes will be permitted. The current freeze will remain in place until further notice for all other major modifications and applications for new LPTV and TV translator stations.

DATES: The Media Bureau will lift the freeze on major modification applications on August 20, 2024 and begin allowing applications for major change in order that Class A, LPTV and TV translator stations may seek to change their existing channel.

FOR FURTHER INFORMATION CONTACT: Mark Colombo (technical questions), Mark.Colombo@fcc.gov, (202) 418-7611, or Shaun Maher (legal questions), Shaun.Maher@fcc.gov, (202) 418-2324, of the Video Division, Media Bureau.

SUPPLEMENTARY INFORMATION: This is a synopsis of the Media Bureau's Public Notice, DA 24-498, released on May 28, 2024. The full text of this document is available for download at https://docs.fcc.gov/public/attachments/DA-24-498A1.pdf. To request materials in accessible formats (braille, large print, computer diskettes, or audio recordings), please send an email to FCC504@fcc.gov or call the Consumer & Government Affairs Bureau at (202) 418-0530 (VOICE), (202) 418-0432 (TTY).

Synopsis

Beginning August 20, 2024, all Class A, LPTV, and TV translator stations will be permitted, on a nationwide basis and without geographic limitation, to file a major modification to seek authority to change channel. No other major changes will be permitted and any changes to a station's facility are restricted to a change in channel and those that could otherwise be requested in a minor modification application. See 47 CFR 73.3572(a)(2), (3) and 74.787(b)(1), (2). For example, requests to move a facility greater than 30 miles (or 48 kilometers) are not permitted and remain subject to the existing freeze. The Media Bureau finds that limiting major modifications in this manner is in the public interest as it will allow stations that have not had an opportunity to change channel since prior to the Incentive Auction the ability to resolve viewer reception issues that cannot be resolved through means other than changing channel. It will also allow stations to improve television service to existing viewers prior to providing an opportunity for other major modifications, such as moving greater than 30 miles, or allowing interested parties to apply for new stations.

All applications will be processed on a first-come, first-serve basis and will be “cut off” daily for purposes of determining mutual exclusivity (MX). Applicants will be given an opportunity to resolve their mutual exclusivity through settlement or engineering amendment that may be submitted during a settlement window to be announced by the Media Bureau by separate public notice. Applications that do not comply with the parameters of this filing opportunity may be amended within 30 days to come into compliance, provided that the amended application does not create a new MX with any other application filed during this opportunity. Any application that fails to come into compliance will be dismissed.

Class A station applications must be filed electronically via the Commission's Licensing and Management System (LMS) on FCC Form 2100—Schedule E and applicants will be required to pay the requisite fee for a major change application ($4,755.00). LPTV and TV translator station applications must be filed electronically via LMS on FCC Form 2100—Schedule C and applicants will be required to pay the requisite fee for a major change application ($865.00). Applications prepared for this filing opportunity should be prepared using 2020 Census data found in the new TVStudy 2.3.0 software. See Office of Engineering and Technology Announces Release of Version 2.3.0 of TV Study, Public Notice, DA 24-499 (rel. May 28, 2024); Media Bureau Announces the Incorporation of 2020 U.S. Census Population Data into the Commission's TVStudy Software and Requirements to Utilize Such Data Effective August 1, 2024, Public Notice, DA 24-497 (rel. May 28, 2024).

This action is taken by the Chief, Media Bureau, pursuant to authority delegated by sections 0.61 and 0.283 of the Commission's rules. 47 CFR 0.61 and 0.283.

Federal Communications Commission.
Thomas Horan,
Chief of Staff, Media Bureau.

[FR Doc. 2024-12368 Filed 6-5-24; 8:45 am]

BILLING CODE 6712-01-P